COMMODITY FUTURES TRADING COMMISSION

Agency Information Collection Activities: Proposed Collection, Comment Request: Reporting of Pre-enactment Swap Transactions

AGENCY: Commodity Futures Trading Commission.

ACTION: Notice.

SUMMARY: The Commodity Futures Trading Commission (“Commission” or “CFTC”) is announcing an opportunity for public comment on the proposed collection of certain information by the agency. Under the Paperwork Reduction Act (“PRA”), 44 U.S.C. 3501 et seq., Federal agencies are required to publish notice in the Federal Register concerning each proposed collection of information and to allow 60 days for public comment. The Commission recently adopted an interim final rule, as required by the Wall Street Reform and Consumer Protection Act (“Dodd-Frank Act”), requiring counterparties to a pre-enactment unexpired swap to report such swaps according to such rules as the Commission may in the future adopt. This notice solicits comments on the record retention requirement that is embedded in the interim final rule's reporting requirement, which was recognized by the Commission in an interpretive note to the final rule.

DATES: Comments must be submitted on or before March 14, 2011.

ADDRESSES: You may submit comments, identified by “Pre-Enactment Swap Collection,” by any of the following methods:

• The Agency's Web site, at http://comments.cftc.gov/. Follow the instructions for submitting comments through the Web site.

• Mail: David A. Stawick, Secretary of the Commission, Commodity Futures Trading Commission, Three Lafayette Centre, 1155 21st Street, NW., Washington, DC 20581.

• Hand Delivery/Courier: Same as mail above.

Please submit your comments using only one method.

All comments must be submitted in English, or if not, accompanied by an English translation. Comments will be posted as received to http://www.cftc.gov.

FOR FURTHER INFORMATION CONTACT: Susan Nathan, Division of Market Oversight, Senior Special Counsel, CFTC, (202) 418-5133; e-mail: snathan@cftc.gov.

SUPPLEMENTARY INFORMATION: Under the PRA, Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information before submitting the collection to OMB for approval. To comply with this requirement, the CFTC is publishing notice of the proposed collection of information listed below.

Abstract: Section 729 of the Dodd-Frank Act required the CFTC to adopt, within 90 days of enactment of the Dodd-Frank Act, an interim final rule for the reporting of swap transactions entered into before July 21, 2010 whose terms had not expired as of that date (“pre-enactment unexpired swaps”). Pursuant to this mandate, the CFTC adopted an interim final rule requiring specified parties to pre-enactment unexpired swap transactions to report certain information related to such transactions to a swap data repository (“SDR”) or to the Commission by the compliance date to be established in reporting rules required under Section 2(h)(5) of the CEA, or within 60 days after an appropriate SDR becomes registered under Section 21 of the CEA and commences operations to receive and maintain data related to such swap, whichever occurs first. An interpretative note to the rule advises that counterparties that may be required to report to an SDR or the CFTC will need to preserve information pertaining to the terms of such swaps.

Burden Statement: The respondent burden for this collection is estimated to be .5 hours per response. These estimates include the time to locate the information related to the pre-enactment unexpired swap transactions and the time to ensure such information is maintained in such form as it currently exists.

Respondents/Affected Entities: Swap Dealers, Major Swap Participants, and other counterparties to a swap transaction (i.e., end-user, non-SD/non-MSP counterparties).

Estimated Number of Respondents: 1,800.

Estimated Total Annual Burden on Respondents: 900 hours.

Frequency of Collection: Once.

Issued by the Commission this 5th day of January, 2011.
David Stawick,
Secretary of the Commission.

[FR Doc. 2011-326 Filed 1-10-11; 8:45 am]

BILLING CODE 6351-01-P